DEPARTMENT OF THE INTERIOR

Bureau of Land Management

[LLCO956000 L14200000.BJ0000]

Notice of Filing of Plats; Colorado.

AGENCY: Bureau of Land Management, Interior.

ACTION: Notice of filing of plats; Colorado.

SUMMARY: The Bureau of Land Management (BLM) Colorado State Office is publishing this notice to inform the public of the intent to officially file the survey plat listed below and afford all affected parties a proper period of time to protest this action prior to the plat filing. During this time, the plat will be available for viewing at http://www.glorecords.blm.gov.

DATES: Unless there are protests of this action, the filing of the plat described in this notice will happen on September 21, 2012.

ADDRESSES: BLM Colorado State Office, Cadastral Survey, 2850 Youngfield Street, Lakewood, Colorado 80215-7093.

FOR FURTHER INFORMATION CONTACT: Randy Bloom, Chief Cadastral Surveyor for Colorado, (303) 239-3856. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The plat and field notes of the dependent resurvey and survey in Township 35 North, Range 11 West, New Mexico Principal Meridian, Colorado, were accepted on July 23, 2012.

Randy Bloom,
Chief Cadastral Surveyor for Colorado.

[FR Doc. 2012-20688 Filed 8-21-12; 8:45 am]

BILLING CODE 4310-JB-P